DEPARTMENT OF TRANSPORTATION

Maritime Administration

[Docket No. MARAD-2018-0054]

Request for Comments on the Renewal of a Previously Approved Information Collection: Application for Conveyance of Port Facility Property

AGENCY: Maritime Administration.

ACTION: Notice and request for comments.

SUMMARY: The Maritime Administration (MARAD) invites public comments on our intention to request the Office of Management and Budget (OMB) approval to renew an information collection. The information collection is necessary for MARAD to determine whether; the applicant is committed to the redevelopment plan, the plan is in the best interests of the public, and the property will be used in accordance with the terms of the conveyance and applicable statutes and regulations. We are required to publish this notice in the Federal Register by the Paperwork Reduction Act of 1995.

DATES: Comments must be submitted on or before June 11, 2018.

ADDRESSES: You may submit comments [identified by Docket No. MARAD-2018-0054] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Linden Houston, Office of Deepwater Ports and Offshore Activities, Maritime Administration, 1200 New Jersey Avenue SE, Washington, DC 20590; Telephone: (202) 366-4839 or E-Mail: mail to: Linden.Houston@dot.gov. Copies of this collection can also be obtained from that office.

SUPPLEMENTARY INFORMATION:

Title: Application for Conveyance of Port Facility Property.

OMB Control Number: 2133-0524.

Type of Request: Renewal of a Previously Approved Information Collection.

Abstract: Public Law 103-160, which is included in 40 U.S.C. 554 authorizes the Department of Transportation to convey to public entities surplus Federal property needed for the development or operation of a port facility. The information collection will allow MARAD to approve the conveyance of property and administer the port facility conveyance program.

Respondents: Eligible state and local public entities.

Affected Public: Eligible state and local public entities.

Estimated Number of Respondents: 13.

Estimated Number of Responses: 13.

Estimated Hours per Response: 44.

Annual Estimated Total Annual Burden Hours: 572.

Frequency of Response: Annually.

(Authority: The Paperwork Reduction Act of 1995; 44 U.S.C. Chapter 35, as amended; and 49 CFR 1.93.)

* * * * *

By Order of the Maritime Administrator.
Dated: April 6, 2018.
T. Mitchell Hudson, Jr.
Secretary, Maritime Administration.

[FR Doc. 2018-07506 Filed 4-10-18; 8:45 am]

BILLING CODE 4910-81-P